DEPARTMENT OF LABOR

Employment and Training Administration

[TA-W-64,725]

Weather Shield Manufacturing, Inc., Corporate Office, Medford, WI; Notice of Affirmative Determination Regarding Application for Reconsideration

By application dated May 26, 2009, petitioners requested administrative reconsideration of the Department's negative determination regarding eligibility to apply for Trade Adjustment Assistance (TAA) and Alternative Trade Adjustment Assistance (ATAA), applicable to workers and former workers of the subject firm. The denial notice was signed on April 29, 2009 and published in the Federal Register on May 18, 2009 (74 FR 23214).

The negative determination was based on the Department's findings that imports of windows did not contribute importantly to worker separations at the subject facility and there was no shift of production to a foreign country. The “contributed importantly” test is generally demonstrated through a survey of the workers' firm's declining domestic customers. The survey of the major declining customers revealed no increasing imports of windows in 2008 when compared with 2007. The subject firm did not import windows during the relevant period.

The petitioner alleged that Weather Shield has experienced declines in sales on the corporate-wide scale throughout the United States.

The petition was filed specifically for the workers of the Weather Shield Manufacturing, Inc., Corporate Office in Milford, Wisconsin. The Department determined that workers of the subject firm are engaged in support functions such as administrative, human resources, accounting, sales, and marketing operations. It was also revealed that the workers of the subject firm support production of windows at various Weather Shield Manufacturing facilities. The Department has conducted investigation to determine there were shifts in production of windows from the production facilities to foreign countries, or whether imports of windows contributed importantly to worker separations. The investigation revealed that none of the production facilities which the workers of the subject firm support are import impacted and there was no shift in production from these facilities to a foreign country.

A careful review of previously-submitted material shows that one of the facilities supported by workers of the Weather Shield Manufacturing, Inc., Corporate Office in Milford, Wisconsin, may have produced articles in addition to windows. Therefore, the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 2nd day of June 2009.
Elliott S. Kushner,
Certifying Officer, Division of Trade Adjustment Assistance.

[FR Doc. E9-14331 Filed 6-17-09; 8:45 am]

BILLING CODE 4510-FN-P